DEPARTMENT OF THE INTERIOR

[OR-958-1430-ET; GPO-03-0124, OR-5773 et al.]

Public Land Order No. 7571; Revocation of 14 Public Land Orders; Oregon

AGENCY: Bureau of Land Management, Interior.

ACTION: Public Land Order.

SUMMARY: This order revokes 14 public land orders in their entirety as they affect approximately 150.37 acres of public and Revested Oregon and California Railroad Grant lands withdrawn and reserved for the Department of Agriculture for constructed Forest Service roads. The reservations are no longer needed. This action will open the lands to all forms of appropriation under the public land laws, including location and entry under the mining laws. The lands have been and will remain open to mineral leasing.

EFFECTIVE DATE: July 23, 2003.

FOR FURTHER INFORMATION CONTACT: Michael L. Barnes, BLM Oregon/Washington State Office, P.O. Box 2965, Portland, Oregon 97208-2965, 503-808-6155. Copies of the withdrawal orders being revoked are available from this location.

SUPPLEMENTARY INFORMATION: The Forest Service has determined that the withdrawals are no longer needed and has requested the revocations. The lands are located in several counties throughout Oregon and Washington.

Order

By virtue of the authority vested in the Secretary of the Interior by Section 204 of the Federal Land Policy and Management Act of 1976, 43 U.S.C. 1714 (1994), it is ordered as follows:

1. The following Public Land Orders are hereby revoked in their entirety: (a). Public Land Orders Nos. 4521, 4626, 4874, 4876, 5065, 5089, and 5092, affecting approximately 40.80 acres of Revested Oregon and California Railroad Grant Lands. (b). Public Land Orders Nos. 4392, 4598, 4846, 4858, 4878, 4993, and 5560, affecting approximately 109.57 acres of public lands.

2. At 8:30 a.m. on July 23, 2003 the lands referenced in paragraph 1(a) will be opened to such uses as may by law be made of Revested Oregon and California Railroad Grant lands, subject to valid existing rights, the provisions of existing withdrawals, other segregations of record, and the requirements of applicable law.

3. At 8:30 a.m. on July 23, 2003, the lands referenced in paragraph 1(b) will be opened to all forms of appropriation under the public land laws generally, subject to valid existing rights, the provisions of existing withdrawals, other segregations of record, and the requirements of applicable law.

4. At 8:30 a.m. on July 23, 2003, the lands referenced in paragraph 1(a) and 1(b) will be opened to location and entry under the United States mining laws, subject to valid existing rights, the provisions of existing withdrawals, other segregations of record, and the requirements of applicable law. Appropriation of any of the lands described in this order under the general mining laws prior to the date and time of restoration is unauthorized. Any such attempted appropriation, including attempted adverse possession is governed by State law where not in conflict with Federal law. The Bureau of Land Management will not intervene in disputes between rival locators over possessory right since Congress has provided for such determination in local courts.

Dated: June 2, 2003.
Rebecca W. Watson,
Assistant Secretary—Land and Minerals Management.

[FR Doc. 03-15736 Filed 6-20-03; 8:45 am]

BILLING CODE 4310-33-M